DEPARTMENT OF JUSTICE

Antitrust Division

Notice Pursuant to the National Cooperative Research and Production Act of 1993—Odva, Inc.

Notice is hereby given that, on January 15, 2020, pursuant to Section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances. Specifically, READY Robotics Corporation, Columbus, OH; SABO Elektronik GmbH, Schwerte, GERMANY; BARTA-SCHOENEWALD, INC., Camarillo, CA; Motortronics UK Ltd., Ivybridge, Gillard Way, UNITED KINGDOM; TRIDIMEO, Orsay, FRANCE; Bayshore Networks, Inc., Durham, NC; UNIPULSE Corporation, Tokyo, JAPAN; Conch Electronic Co., Ltd., Tainan City, Taiwan, PEOPLE'S REPUBLIC OF CHINA; Sigma (NSW) PTY LTD, Macquarie Park, AUSTRALIA; JTEKT Corporation, Kariya-shi, Aichi Prefecture, JAPAN; Knick Elektronische Messgeräte GmbH & Co. KG, Berlin, GERMANY; RICOH Industrial Solutions Inc., Yokohama, JAPAN; Shanghai Junqian Sensing Technology Co. Ltd., Shanghai, PEOPLE'S REPUBLIC OF CHINA; Teknic, Inc., Victor, NY; RIFTEK LLC, Minsk, REPUBLIC OF BELARUS; and Intelligent Platforms LLC, Charlottesville, VA, have been added as parties to this venture.

Also, profichip GmbH, Herzogenaurach, GERMANY; Automation Solutions, Inc., Houston, TX; WITZ Corporation, Nagoya, JAPAN; General Cable Industries, Inc., Highland Heights, KY; Hitachi, Ltd., Saitama-shi, Saitama, JAPAN; Rosemount Inc., Chanhassen, MN; and Trinité Automatisering B.V., Uithoorn, THE NETHERLANDS, have withdrawn as parties to this venture.

In addition, Omron Scientific Technologies, Inc. has changed its name to Omron Robotics and Safety Technologies, Inc., Fremont, CA; and Beijing HORIBA METRON Instruments Co., Ltd., to HORIBA Precision Instruments (Beijing) Co., Ltd., Beijing, PEOPLE's REPUBLIC OF CHINA.

No other changes have been made in either the membership or planned activity of the group research project. Membership in this group research project remains open and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on August 1, 2019. A notice was published in the Federal Register pursuant to Section 6(b) of the Act on August 9, 2019 (84 FR 39372).

Suzanne Morris,
Chief, Premerger and Division Statistics Unit, Antitrust Division.

[FR Doc. 2020-01820 Filed 1-30-20; 8:45 am]

BILLING CODE 4410-11-P